DEPARTMENT OF COMMERCE

National Oceanic and Atmospheric Administration

50 CFR Part 226

[Docket No. 150818735-6236-01]

RIN 0648-BF28 and 0648-BF32

Endangered and Threatened Species; Designation of Critical Habitat for Five Distinct Population Segments of Atlantic Sturgeon; Reopening of Public Comment Period

AGENCY: National Marine Fisheries Service (NMFS), National Oceanic and Atmospheric Administration (NOAA), Commerce.

ACTION: Proposed rule, reopening of public comment period.

SUMMARY: NMFS hereby reopens the comment period on the proposed designation of critical habitat for five distinct population segments (DPSs) of Atlantic sturgeon. Critical habitat for the five DPSs was proposed in two separate proposed rules, published on June 3, 2016, with a 90-day comment period.

DATES: The comment period for the proposed rules that published on June 3, 2016 (81 FR 35701 and 81 FR 36078) are reopened. Comments must be submitted via the Federal eRulemaking Portal or received at the appropriate address (see ADDRESSES) by October 14, 2016.

ADDRESSES: You may submit comments, identified by NOAA-NMFS-2015-0107 for the proposed rule for the Gulf of Maine, New York Bight, and Chesapeake Bay DPSs and identified by NOAA-NMFS-2015-0157 for the Carolina and South Atlantic DPSs, by either of the following methods:

• Electronic Submissions: Submit all electronic public comments via the Federal eRulemaking Portal. Go to www.regulations.gov/#!docketDetail;D=NOAA-NMFS-2015-0107 or www.regulations.gov/#!docketDetail;D=NOAA-NMFS-2015-0157, click the “Comment Now!” icon, complete the required fields, and enter or attach your comments.

• Mail: For docket NOAA-NMFS-2015-0107, submit comments to Assistant Regional Administrator, Protected Resources Division, NMFS, Greater Atlantic Regional Office, 55 Great Republic Drive, Gloucester, MA 01930. For docket NOAA-NMFS-2015-0157, submit comments to Assistant Regional Administrator, Protected Resources Division, NMFS, Southeast Regional Office, 263 13th Avenue South, St. Petersburg, FL 33701.

Instructions: Comments sent by any other method, to any other address or individual, or received after the end of the comment period, may not be considered by us. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

FOR FURTHER INFORMATION CONTACT: Andrew Herndon, NMFS, SERO at 727-824-5312; Lynn Lankshear, NMFS, GARFO at 978-282-8473; or Lisa Manning, NMFS, Office of Protected Resources at 301-427-8466.

SUPPLEMENTARY INFORMATION:

Reopening

On June 3, 2016, we, NMFS, published two proposed rules (81 FR 35701and 81 FR 36078) to designate critical habitat for the Gulf of Maine, New York Bight, Chesapeake Bay, Carolina, and South Atlantic DPSs of Atlantic sturgeon under the Endangered Species Act of 1973 (ESA), as amended. A 90-day public comment period was provided. Public comments were due by September 1, 2016. NMFS received multiple requests for extension of the comment period. Based on the requests, the comment period for each of these proposed rules is reopened for an additional 15 days to provide further opportunity for public comment.

We are soliciting comments from the public on all aspects of the proposal, including information on the economic, national security, and other relevant impacts. Comments already received during the 90-day comment period and additional comments received during the reopened 15-day comment period will be considered prior to making the final designations.

Background

We propose to designate critical habitat for the Gulf of Maine, New York Bight, Chesapeake Bay, Carolina, and South Atlantic Distinct Population Segments (DPSs) of Atlantic sturgeon (Acipenser oxyrinchus oxyrinchus). The specific areas proposed for designation include approximately 244 kilometers (152 miles) of aquatic habitat for the Gulf of Maine DPS, 547 kilometers (340 miles) of aquatic habitat for the New York Bight DPS, and 729 kilometers (453 miles) of aquatic habitat for the Chesapeake Bay DPS. Our proposed determinations for the Gulf of Maine, New York Bight, and Chesapeake Bay DPSs are described in the document identified by NOAA-NMFS-2015-0107. We also propose to designate approximately 1,997 kilometers (1,241 miles) of occupied aquatic habitat and 383 kilometers (238 miles) of unoccupied aquatic habitat for the Carolina DPS, and approximately 2,911 kilometers (1,809 miles) of occupied aquatic habitat and 33 kilometers (21 miles) of unoccupied aquatic habitat for the South Atlantic DPS. Our proposed determinations for the Carolina and South Atlantic DPSs are described in the document identified by NOAA-NMFS-2015-0157. We do not propose to exclude any particular areas from the proposed critical habitat designations.

Authority: 16 U.S.C. 1533.

Dated: September 26, 2016.
Samuel D Rauch III,
Deputy Assistant Administrator for Regulatory Programs, National Marine Fisheries Service.

[FR Doc. 2016-23530 Filed 9-28-16; 8:45 am]

BILLING CODE 3510-22-P